DEPARTMENT OF THE INTERIOR

Bureau of Land Management

[MT-070-01-2810-PD]

Designation Order: MT-070-0001; Emergency Off-Road Vehicle Closure Designation, Butte Field Office, Montana

AGENCY: Bureau of Land Management, Interior.

ACTION: Emergency off-road closure to all motorized vehicles.

SUMMARY: Final notice is hereby given that effective immediately all public BLM lands burned in the Bucksnort Fire (Spokane Hills) and the Boulder Hill Complex Fire (High Ore/Wickes and Muskrat Creek areas) are temporarily closed to all off-road motorized vehicle uses year-long. The use of existing roads will be allowed to continue. Lands affected are in:

Principal Meridian, Montana

T. 6 N., R. 4 W.

Sec. 1, 5-8, and 18

T. 6 N., R. 5 W.

Sec. 1-3, and 10-15

T. 7 N., R 4 W.

Sec. 16, 20-22, 27-29, and 31-33

T. 9 N., R. 1 E.

Sec. 18 and 19

T. 9 N., R. 1 W.

Sec. 1, 3, 11 and 12

T. 10 N., R. 1 W.

Sec. 21, 26-28, 34 and 35

The Spokane Hills are located about 15 miles East of Helena and immediately West of Canyon Ferry Lake. The High Ore/Wicks area is about 20 miles south of Helena and 3 miles North of Boulder on the West side of I-15. A small portion of the Muskrat Creek area in Section 1, currently open under the Elkhorns Travel Management Plan, is located about 5 miles NNE of Boulder and East of I-15.

The purpose of this post-burn, emergency area closure is to protect soils and vegetation. This closure will also help to reduce the spread of noxious weeds and public safety hazards within the affected areas. BLM will be conducting post-burn rehabilitation treatments this fall and next year. The bureau's use of motorized equipment in these areas will be limited to that which is essential for project completion. Specific use exceptions to these closures will be considered on a case by case basis subject to reasonable needs and resource impacts. This decision is consistent with the Headwaters Resource Management Plan and is authorized under 43 CFR 8342. These post-burn closures will remain in effect until rescinded or modified by the authorized official.

FOR FURTHER INFORMATION CONTACT: Dave Pacioretty, Assistant Manager, Butte Field Office, P.O. Box 3388, Butte, Montana 59702, 406-494-5059.

Dated: October 3, 2000.
Richard M. Hotaling,
Field Manager.

[FR Doc. 00-26428 Filed 10-13-00; 8:45 am]

BILLING CODE 4310-DN-P